DEPARTMENT OF STATE

[Public Notice 5657]

Bureau of Educational and Cultural Affairs (ECA) Request for Grant Proposals: Study of the United States Institutes for Student Leaders Announcement Type: New Cooperative Agreement.

Funding Opportunity Number: ECA/A/E/USS-07-SL.

Catalog of Federal Domestic Assistance Number: 00.000.

Key Dates: Summer 2007.

Application Deadline: February 16, 2007.

Executive Summary: The Branch for the Study of the United States, Office of Academic Exchange Programs, invites proposal submissions for the design and implementation of nine Study of the United States Institutes for Student Leaders, to take place over the course of five weeks. While the majority of Institutes should take place during Summer 2007, scheduling of each Institute should take into consideration the academic calendar of the participants' home country(ies). The Institutes should be similar in structure and content, take place at U.S. academic institutions, and provide groups of highly motivated undergraduate students from the countries and regions noted below with an integrated academic and educational travel program that will give them a deeper understanding of U.S. society and culture, while at the same time enhancing their leadership skills.

Each Institute will host up to 20 participants, for a total of approximately 180 students. ECA plans to award a single grant for the administration of nine Study of the U.S. Institutes. The awarding of the grant for this program is contingent upon the availability of FY-2007 funds.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

Study of the U.S. Institutes for Student Leaders are intensive academic programs whose purpose is to provide groups of undergraduate student leaders with a deeper understanding of the United States, while simultaneously enhancing their leadership skills.

The principal objective of the Institutes is to heighten the participants' awareness of the history and evolution of U.S. society, culture, values and institutions, broadly defined. In this context, the Institutes should incorporate a focus on contemporary American life, as it is shaped by historical and/or current political, social, and economic issues and debates. The role and influence of principles and values such as democracy, the rule of law, individual rights, freedom of expression, equality, diversity and tolerance should be addressed.

In addition to promoting a better understanding of the United States, an important objective of the Institutes is to develop the participants' leadership and collective problem-solving skills. In this context, the academic program should include group discussions, training and exercises that focus on such topics as the essential attributes of leadership, teambuilding, collective problem-solving skills, effective communication, and management skills for diverse organizational settings. There should also be a community service component, in which the students experience firsthand how not-for-profit organizations and volunteerism play a key role in American civil society.

Local site visits and educational travel should provide opportunities to observe varied aspects of American life and to discuss lessons learned in the academic program. The program should also include opportunities for participants to meet American citizens from a variety of backgrounds, to interact with their American peers, and to speak to appropriate student and civic groups about their experiences and life in their home countries.

Administering Organization

The Bureau is seeking detailed proposals for the Institutes from public and private non-profit organizations, or consortia of such organizations with expertise in administering academic exchange programs, which will administer the Institute directly or in collaboration with partner institutions. Consortia must designate a lead institution to receive the grant award. Organizations that opt to work in sub-grant arrangements should clearly outline all duties and responsibilities of the partner organization, ideally in the form of sub-grant agreements and accompanying budgets.

Each institute should take place on a U.S. college or university campus. Host institutions must be selected from among accredited four-year liberal arts colleges, community colleges, universities, other not-for-profit academic organizations or a consortia of these institutions that have an established reputation in one or more of the following fields: political science, international relations, law, history, sociology, American studies, and/or other disciplines or sub-disciplines related to the study of the United States.

Organizations or consortia applying for this grant must demonstrate their (or their partners') capacity for conducting projects of this nature. ECA strongly prefers that each institution host only one institute.

Program Design

Each Study of the U.S. Institute for Student Leaders should provide a group of up to 20 students with a uniquely designed program that focuses on U.S. society and culture. Each Institute will consist of a challenging academic program, as well as educational travel to illustrate the various topics explored in class.

Each program should be five weeks in length; participants will spend four weeks at the host institution for the academic program, and approximately one week on the related educational study tour, including two to three days in Washington, DC, at the conclusion of the Institute. The educational travel component should directly complement the academic program, and should include visits to cities and other sites of interest in the region around the host institution.

Each Institute should be designed as an intensive academic program with an educational travel component that is organized through a carefully integrated series of panel presentations, seminar discussions, debates, individual and group activities, lectures and reading assignments, as well as local site visits, regional educational travel, and participation in community service activities.

The Institute must not simply replicate existing or previous lectures, workshops, or group activities designed for American students. Rather, it should be a specially designed and well-integrated seminar that creatively combines lectures, discussions, readings, debates, local site visits and educational travel into a coherent whole. The grantee institution should take into account that the participants may have little or no prior knowledge of the United States and varying degrees of experience in expressing their opinions in a classroom setting; it should tailor the curriculum and classroom activities accordingly. Every effort should be made to encourage active student participation in all aspects of the Institute. The program should provide ample time and opportunity for discussion and interaction among students, lecturers and guest speakers, not simply standard lectures or broad survey reading assignments. Reading and writing assignments should be adjusted to the participants' familiarity with English.

Applicants are encouraged to select accredited four-year liberal arts colleges, community colleges, universities, academic organizations or a consortia of these institutions to design thematically coherent programs in ways that draw upon the particular strengths, faculty and resources of their institutions, as well as upon the nationally recognized expertise of scholars and other experts throughout the United States.

Program Administration

The grantee organization should designate a project director to oversee all of the Institutes, coordinate logistical and administrative arrangements, ensure an appropriate level of continuity between the various host institution programs, and serve as the principal liaison between ECA and all the host institutions and thus, ECA's primary point of contact.

The grantee organization should also designate an academic director at each host institution who will be present throughout the program to ensure the continuity, coherence and integration of all aspects of the academic program, including the related educational study tour. In addition to the academic director, an administrative coordinator should be assigned at each host institution to oversee all student support services, including supervision of the program participants and budgetary, logistical, and other administrative arrangements. For purposes of this program, it is important that the grantee organization also retain qualified mentors or escorts at each host institution who exhibit cultural sensitivity, an understanding of the program's objectives, and a willingness to accompany the students throughout the program.

Participants

Participants will be identified and nominated by the U.S. Embassies, Consulates and/or Fulbright Commissions in the participating countries, with final selection made by ECA. Each Institute will host up to 20 participants, for a total of approximately 180 students. Participation in the nine Institutes will be organized by country, or region, as follows:

(1) Nigeria, Kenya, South Africa.

(2) Argentina, Chile, Uruguay.

(3) Peru, Ecuador, Venezuela.

(4) Brazil.

(5) China.

(6) Turkey.

(7) Bangladesh.

(8) Pakistan.

(9) Pakistan (second institute).

Participants in the Study of the U.S. Institutes for Student Leaders will be highly motivated undergraduate students from colleges, universities and other institutions of higher education in selected countries overseas who demonstrate leadership through academic work, community involvement, and extracurricular activities. Their major fields of study will be varied, and will include the sciences, social sciences, humanities, education and business. All participants will have a good knowledge of English.

Every effort will be made to select a balanced mix of male and female participants, and to recruit participants who are from non-elite or underprivileged backgrounds, from both rural and urban areas, and have had little or no prior experience in the United States or elsewhere outside of their home country.

Program Dates: The Institutes should be five weeks in length. While the majority of Institutes should take place during Summer 2007, scheduling of each Institute should take into consideration the academic calendar of the participants' home country(ies). Those institutes beginning in Summer 2007 should begin on or around the same date.

Program Guidelines: It is essential that proposals provide a detailed and comprehensive narrative describing how the partner organizations and/or host institutions will achieve the objectives of the Institutes; the title, scope and content of each session; planned site visits, including educational travel; and how each session relates to the overall institute theme.

The proposal must list the institutions that will host the various programs, and for which group of students.

A sample template should be provided that lays out the academic program, including lectures, panel discussions, group presentations or other activities. A description of plans for public and media outreach in connection with the Institutes should also be included.

Overall, proposals will be reviewed on the basis of their responsiveness to RFGP criteria, coherence, clarity, and attention to detail.

Please note: In a cooperative agreement, the Bureau is substantially involved in program activities above and beyond routine grant monitoring. The Bureau will assume the following responsibilities for the Institutes: participate in the selection of participants; review and confirm syllabi and proposed speakers for each of the Institutes; oversee the Institutes through one or more site visits; debrief participants in Washington, DC at the conclusion of the Institute; work with the cooperating agency to publicize the program through various media outlets; provide Bureau-approved evaluation surveys for completion by participants; and engage in follow-on communication with the participants after they return to their home countries.

The Bureau may request that the grantee institution make modifications to the academic residency and/or educational travel components of the program. The recipient will be required to obtain approval of any significant program changes in advance of their implementation.

Note: All materials, publicity, and correspondence related to the program must acknowledge this as a program of the Bureau of Educational and Cultural Affairs, U.S. Department of State. The Bureau will retain copyright use of and distribute materials related to this program is it sees fit.

II. Award Information

Type of Award: Cooperative Agreement. ECA's level of involvement in this program is detailed in the previous paragraph.

Fiscal Year Funds: FY-2007 (pending availability of funds).

Approximate Total Funding: $2,250,000.

Approximate Number of Awards: 1.

Approximate Average Award: $2,250,000.

Floor of Award Range: $2,000,000.

Ceiling of Award Range: $2,250,000.

Anticipated Award Date: Pending availability of funds, April 1, 2007.

Anticipated Project Completion Date: May 30, 2008.

Additional Information: Pending successful implementation of this program and the availability of funds in subsequent fiscal years, it is ECA's intent to renew this grant for two additional fiscal years, before openly competing it again.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau strongly encourages applicants to provide maximum levels of cost sharing and funding in support of its programs. When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a) Grants awarded to eligible organizations with less than four years of experience in conducting international exchange programs will be limited to $60,000. ECA anticipates awarding one grant in an amount up to $2,250,000 to support program and administrative costs required to implement this exchange program. Therefore, organizations with less than four years experience in conducting international exchanges are ineligible to apply under this competition.

IV. Application and Submission Information

Note: Please read the complete announcement before sending inquiries or submitting proposals. Once the RFGP deadline has passed, Bureau staff may not discuss this competition with applicants until the proposal review process has been completed.

IV.1 Contact Information To Request an Application Package

Please contact the Branch for the Study of the United States, ECA/A/E/USS, Room 314, U.S. Department of State, SA-44, 301 4th Street, SW., Washington, DC 20547; tel. (202) 453-8540; fax (202) 453-8533 to request a Solicitation Package. Please refer to the Funding Opportunity Number ECA/A/E/USS-07-SL located at the top of this announcement when making your request.

Alternatively, an electronic application package may be obtained from grants.gov. Please see section IV.3f for further information.

The Solicitation Package contains the Proposal Submission Instruction (PSI) document, which consists of required application forms, and standard guidelines for proposal preparation. It also contains the Project Objectives, Goals and Implementation (POGI) document, which provides specific information, award criteria and budget instructions tailored to this competition.

Please specify Bureau Program Officer Jennifer Phillips and refer to the Funding Opportunity Number ECA/A/E/USS-07-SL located at the top of this announcement on all other inquiries and correspondence.

IV.2. To Download a Solicitation Package Via Internet

The entire Solicitation Package may be downloaded from the Bureau's Web site at http://exchanges.state.gov/education/rfgps/menu.htm, or from the Grants.gov Web site at http://www.grants.gov.

Please read all information before downloading.

IV.3. Content and Form of Submission

Applicants must follow all instructions in the Solicitation Package. The application should be submitted per the instructions under IV.3f, “Application Deadline and Methods of Submission” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF—424 which is part of the formal application package.

IV.3b. All proposals must contain an executive summary, proposal narrative and budget. Please refer to the Solicitation Package. It contains the mandatory PSI and POGI documents for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa. The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements.

The Grantee may be responsible for issuing DS-2019 forms to participants in this program, as an alternate responsible officer under the Bureau's J Designation.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

Please refer to Solicitation Package for further information.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the 'Support for Diversity' section (V.2.) for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.3. Program Monitoring and Evaluation. Monitoring: Proposals must include a plan to monitor and evaluate the project's success, both as the activities unfold and at the end of the program. The Bureau recommends that your proposal include a draft survey questionnaire or other technique plus a description of a methodology to use to link outcomes to original project objectives. The Bureau expects that the grantee will track participants or partners and be able to respond to key monitoring questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes. You should also show how your project objectives link to the goals of the program described in this RFGP. Overall, the quality of your monitoring plan will be judged on how well it specifies successes and challenges.

Grantees will be required to provide reports analyzing their evaluation findings to the Bureau in their regular program reports. All data collected, including survey responses and contact information, must be maintained for a minimum of three years and provided to the Bureau upon request.

Evaluation: The Bureau's Office of Policy and Evaluation will conduct evaluations of the Study of the U.S. Institutes through E-GOALS, its online system for surveying program participants and collecting data about program performance. These evaluations assist ECA and its program grantees in meeting the requirements of the Government Performance Results Act (GPRA) of 1993. This Act requires Federal agencies to measure the results of their programs in meeting pre-determined performance goals and objectives. All program participants will take three online surveys:

1. Standardized pre-program surveys, at the beginning of the program;

2. Standardized post-program surveys, at the end of the program and before their return home; and

3. Standardized follow-up surveys, approximately six months to a year after the conclusion of the program.

These surveys help ECA assess: Satisfaction with the program; student attitudes and views; the extent of learning and skill development (including leadership); reliance on new learning and skills in their studies, at work, and in their communities; and their efforts to share new ideas, knowledge, and insights with citizens in their home countries.

Since organizations play a critical role in facilitating E-GOALS evaluations of program participants, it is imperative that applicants include a plan to ensure that participants complete the post-program surveys while they are still on program and prior to their departure from the United States; this includes monitoring the response rate through collection of a certificate issued by the system to each student upon completion of the survey. The grantee will be working directly with an E-GOALS evaluator in the Office of Policy and Evaluation. Please see specific responsibilities in the accompanying Project Objectives, Goals and Implementation (POGI) document.

IV.3d.4. Describe your plans for overall program management, staffing, and coordination with the Bureau. The Bureau considers these to be essential elements of your program; please be sure to give sufficient attention to them in your proposal.

IV.3e. Please take the following information into consideration when preparing your budget:

IV.3e.1. Applicants must submit a comprehensive budget for the entire program. Awards may not exceed $2,250,000. While there is no rigid ratio of administrative to program costs, the Bureau urges applicant organizations to keep administrative costs as low and reasonable as possible.

There must be a summary budget as well as breakdowns reflecting both administrative and program budgets. Applicants may provide separate sub-budgets for each program component, phase, location, or activity to provide clarification. Applicants should also provide copies of any sub-grant agreements that would be implemented under terms of this award.

IV.3e.2. Allowable costs for the program and additional budget guidance are outlined in detail in the POGI document. Please refer to the Solicitation Package for complete budget guidelines and formatting instructions.

IV.3f. Application Deadline and Methods of Submission.

Application Deadline Date: February 16, 2007.

Reference Number: ECA/A/E/USS-07-SL.

Methods of Submission: Applications may be submitted in one of two ways:

(1) In hard-copy, via a nationally recognized overnight delivery service (i.e., DHL, Federal Express, UPS, Airborne Express, or U.S. Postal Service Express Overnight Mail, etc.), or

(2) electronically through http://www.grants.gov.

Along with the Project Title, all applicants must enter the above Reference Number in Box 11 on the SF-424 contained in the mandatory Proposal Submission Instructions (PSI) of the solicitation document.

IV.3f.1 Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight (8) copies of the application should be sent to: U.S. Department of State, SA-44, Bureau of Educational and Cultural Affairs, Reference Number: ECA/A/E/USS-07-SL, Program Management, ECA/EX/PM, Room 534, 301 4th Street, SW., Washington, DC 20547.

Applicants submitting hard-copy applications must also submit the “Executive Summary” and “Proposal Narrative” sections of the proposal in text (.txt) format on a PC-formatted disk. The Bureau will provide these files electronically to regional bureaus and Public Affairs Sections at U.S. embassies and for their review, as appropriate.

IV.3f.2. Submitting Electronic Applications. Applicants have the option of submitting proposals electronically through Grants.gov (http://www.grants.gov). Complete solicitation packages are available at Grants.gov in the “Find” portion of the system. Please follow the instructions available in the 'Get Started' portion of the site (http://www.grants.gov/GetStarted). Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your Internet connection. Therefore, we strongly recommend that you not wait until the application deadline to begin the submission process through Grants.gov. Direct all questions regarding Grants.gov registration and submission to: Grants.gov Customer Support, Contact Center Phone: 800 -518-4726, Business Hours: Monday—Friday, 7 a.m.—9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

V.2. Review Criteria

Technically eligible applications will be competitively reviewed according to the criteria stated below. These criteria are not rank ordered and all carry equal weight in the proposal evaluation:

1. Quality of Program Idea/Plan: Proposals should exhibit originality, substance, precision, and relevance to the Bureau's mission. Detailed agenda and relevant work plan should demonstrate substantive undertakings and logistical capacity.

2. Ability to Achieve Overall Program Objectives: Objectives should be reasonable, feasible, and flexible. Proposals should clearly demonstrate how the institution will meet the program's objectives and plan.

3. Support for Diversity: Proposals should demonstrate substantive support of the Bureau's policy on diversity. Achievable and relevant features should be cited in both program administration (program venue, study tour venue, and program evaluation) and program content (orientation and wrap-up sessions, site visits, program meetings and resource materials).

4. Evaluation and Follow-On: Proposals should include a plan to evaluate the Institute's success, both as the activities unfold and at the end of the program. A draft survey questionnaire or other technique plus description of a methodology to use to link outcomes to original institute objectives is strongly recommended. Proposals should provide a plan for continued follow-on activity (without Bureau support) ensuring that Bureau supported programs are not isolated events.

5. Cost-effectiveness/Cost-sharing: The overhead and administrative components of the proposal, including salaries and honoraria, should be kept as low as possible. All other items should be necessary and appropriate. Proposals should maximize cost-sharing through other private sector support as well as institutional direct funding contributions.

6. Institutional Track Record/Ability: Proposals should demonstrate an institutional record of successful exchange programs, including responsible fiscal management and full compliance with all reporting requirements for past Bureau grants as determined by Bureau Grants Staff. The Bureau will consider the past performance of prior recipients and the demonstrated potential of new applicants. Proposed personnel and institutional resources should be fully qualified to achieve the Institute's goals.

VI. Award Administration Information

VI.1. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants; http://exchanges.state.gov/education/grantsdiv/terms.htm#articleI.

VI.3. Reporting Requirements

You must provide ECA with a hard copy original plus one (1) copy of the final program and financial report no more than 90 days after the expiration of the award.

Grantees will be required to provide reports analyzing their evaluation findings to the Bureau in their regular program reports. Please refer to Application and Submission Instructions (IV.3d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Jennifer Phillips, Branch for the Study of the United States, ECA/A/E/USS, Room 314, U.S. Department of State, SA-44, 301 4th Street, SW., Washington, DC 20547; tel. (202) 453-8537; fax (202) 453-8533; e-mail, PhillipsJA@state.gov.

All correspondence with the Bureau concerning this RFGP should reference the title “Study of the U.S. Institutes for Student Leaders” and number ECA/A/E/USS-07-SL. Please read the complete announcement before sending inquiries or submitting proposals. Once the RFGP deadline has passed, Bureau staff may not discuss this competition with applicants until the proposal review process has been completed.

VIII. Other Information

Notice:

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: December 18, 2006.
Dina Habib Powell,
Assistant Secretary for Educational and Cultural Affairs, Department of State.

[FR Doc. E6-22320 Filed 12-27-06; 8:45 am]

BILLING CODE 4710-07-P